DEPARTMENT OF THE INTERIOR

Bureau of Land Management

[LLCO956000 L14400000.BJ0000]

Notice of Filing of Plats of Survey; Colorado

AGENCY: Bureau of Land Management, Interior.

ACTION: Notice of Filing of Plats of Survey; Colorado.

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on November 30, 2015.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The plat and field notes of the corrective dependent resurvey in Township 34 North, Range 11 West, South of the Ute Line, New Mexico Principal Meridian, Colorado, were accepted on August 31, 2015.

The plat, in 2 sheets, incorporating the field notes of the dependent resurvey and survey in Township 48 North, Range 3 West, New Mexico Principal Meridian, Colorado, was accepted on September 30, 2015.

The plat, in 2 sheets, incorporating the field notes of the dependent resurvey and survey in Township 47 North, Range 4 West, New Mexico Principal Meridian, Colorado, was accepted on September 30, 2015.

The plat, in 3 sheets, incorporating the field notes of the dependent resurvey and survey in Township 47 North, Range 3 West, New Mexico Principal Meridian, Colorado, was accepted on September 30, 2015.

The plat, in 3 sheets, incorporating the field notes of the dependent resurvey and survey in Townships 47 North, Ranges 3 and 4 West, New Mexico Principal Meridian, Colorado, was accepted on September 30, 2015.

The plat, in 2 sheets, incorporating the field notes of the dependent resurvey and survey in Township 48 North, Range 1 East, New Mexico Principal Meridian, Colorado, was accepted on September 30, 2015.

The plat, in 2 sheets, incorporating the field notes of the dependent resurvey and survey in Township 47 North, Range 2 West, New Mexico Principal Meridian, Colorado, was accepted on September 30, 2015.

The plat, in 3 sheets, incorporating the field notes of the dependent resurvey and metes-and-bounds survey in Township 49 North, Range 1 West, New Mexico Principal Meridian, Colorado, was accepted on September 30, 2015.

The plat, in 3 sheets, incorporating the field notes of the dependent resurvey and survey in Townships 50 and 51 North, Range 1 East, New Mexico Principal Meridian, Colorado, was accepted on September 30, 2015.

The plat, in 5 sheets, incorporating the field notes of the dependent resurvey and survey in Township 51 North, Range 1 West, New Mexico Principal Meridian, Colorado, was accepted on September 30, 2015.

The plat, in 6 sheets, incorporating the field notes of the dependent resurvey and survey in Township 48 North, Range 3 West, New Mexico Principal Meridian, Colorado, was accepted on September 30, 2015.

Dale E. Vinton,
Acting Chief Cadastral Surveyor for Colorado.

[FR Doc. 2015-27565 Filed 10-28-15; 8:45 am]

BILLING CODE 4310-JB-P